DEPARTMENT OF AGRICULTURE

Forest Service

Proposed Forest Plan Amendment for the Palomar Gasline Transmission Project; Mt. Hood National Forest; Oregon

AGENCY: Forest Service, USDA.

ACTION: Revised Notice of intent to prepare a forest plan amendment.

SUMMARY: On November 24, 2008 the USDA Forest Service, Mt. Hood National Forest published a Notice of Intent in the Federal Register (73 FR 70956) to prepare a forest plan amendment for the proposed Palomar Gasline Transmission Project (PGT). The Notice of Intent is being revised to extend the end of the scoping comment period from January 9, 2009 to February 4, 2009.

FOR FURTHER INFORMATION CONTACT: Mike Redmond, Environmental Coordinator, Mt. Hood National Forest, 16400 Champion Way, Sandy OR 97055 or by e-mailing mredmond@fs.fed.us or by calling (503) 668-1776.

Dated: December 8, 2008.
Kathryn J. Silverman,
Deputy Forest Supervisor, Mt. Hood National Forest.

[FR Doc. E8-29640 Filed 12-15-08; 8:45 am]

BILLING CODE 3410-11-M